DEPARTMENT OF LABOR

Mine Safety and Health Administration

30 CFR Part 72

30 CFR Parts 70, 75 and 90

RIN 1219-AB18; RIN 1219-AB14

Determination of Concentration of Respirable Coal Mine Dust; Verification of Underground Coal Mine Operators' Dust Control Plans and Compliance Sampling for Respirable Dust

AGENCIES: Mine Safety and Health Administration (MSHA), Labor. National Institute for Occupational Safety and Health (NIOSH), Centers for Disease Control and Prevention, Department of Health and Human Services.

ACTION: Proposed rules; extension of comment periods; close of records.

SUMMARY: The Mine Safety and Health Administration (MSHA) is announcing two-week extensions of the comment periods on two notices of proposed rulemakings which were both published in the Federal Register on July 7, 2000.

One proposal, “Determination of Concentration of Respirable Coal Mine Dust” announced that the Secretary of Labor and the Secretary of Health and Human Services that the average concentration of respirable dust to which each miner in the active workings of a coal mine is exposed can be accurately measured over a single shift. The Secretaries are proposing to rescind a previous 1972 finding by the Secretary of the Interior and the Secretary of Health, Education and Welfare, on the accuracy of single-shift sampling.

The other proposal, “Verification of Underground Coal Mine Operators' Dust Control Plans and Compliance Sampling for Respirable Dust” announced that MSHA would revoke existing operator respirable dust sampling procedures under parts 70 and 90, and would implement new regulations, under part 72, that would require each underground coal mine operator to have a verified mine ventilation plan.

These rulemaking records will remain open until September 8, 2000.

DATES: Comments must be received on or before September 8, 2000.

ADDRESSES: You may use mail, facsimile (fax), or electronic mail to send us your comments. Clearly identify your comments and send them—(1) By mail to Carol J. Jones, Director, Office of Standards, Regulations, and Variances, MSHA, 4015 Wilson Boulevard, Room 631, Arlington, VA 22203; (2) By fax to MSHA, Office of Standards, Regulations, and Variances, 703-235-5551; or (3) By electronic mail to comments@msha.gov.

FOR FURTHER INFORMATION CONTACT: Carol J. Jones, Director; Office of Standards, Regulations, and Variances, MSHA, 4015 Wilson Boulevard, Arlington, VA 22203-1984; 703-235-1910.

SUPPLEMENTARY INFORMATION:

(1) Determination of Concentration of Respirable Coal Mine Dust

On July 7, 2000, (65 FR 42068), the Secretary of Labor and the Secretary of Health and Human Services (the Secretaries) jointly published a notice of proposed rulemaking finding in accordance with sections 101 (30 U.S.C. 811) and 202(f)(2) (30 U.S.C. 842(f)(2)) of the Federal Mine Safety and Health Act of 1977 (Mine Act) that the average concentration of respirable dust to which each miner in the active workings of a coal mine is exposed can be accurately measured over a single shift. The Secretaries are proposing to rescind a 1972 finding by the Secretary of the Interior and the Secretary of Health, Education, and Welfare, on the accuracy of such single-shift sampling.

(2) Verification of Underground Coal Mine Operators' Dust Control Plans and Compliance Sampling for Respirable Dust

On July 7, 2000, (65 FR 42122), we published a proposed rule which would revoke existing operator respirable dust sampling procedures under 30 CFR parts 70 and 90. The proposal would implement new regulations under which MSHA would verify the effectiveness of a mine operator's dust control parameters for mechanized mining units (MMUs) specified in the mine ventilation plan before these plans are approved. Verification sampling would be conducted under more typical production levels and for the actual length of the production shift.

(3) Public Hearings

We encourage the mining community to participate in the public hearings on the proposed rules. The hearings will be held as follows:

1. August 7 from 8:30 a.m. to 5:00 p.m.; August 8 from 8:30 a.m. to 12:00 p.m. if necessary; Holiday Inn, 1400 Saratoga Avenue, Morgantown, West Virginia 26505, 304-599-1680

2. August 10 from 8:30 a.m. to 5:00 p.m.; August 11 from 8:30 a.m. to 12:00 p.m. if necessary; Holiday Inn, 1887 North US 23, Prestonsburg, Kentucky 41653, 606-886-0001

3. August 16 from 8:30 a.m. to 5:00 p.m.; August 17 from 8:30 a.m. to 12:00 p.m. if necessary; Hilton Salt Lake City Center, 255 South West Temple, Salt Lake City, Utah 84101, 801-328-2000

(4) Post-Hearing Comments; Close of Record

The post-hearing comment period and rulemaking records for “Determination of Concentration of Respirable Coal Mine Dust” (65 FR 42185) and “Verification of Underground Coal Mine Operators' Dust Control Plans and Compliance Sampling for Respirable Dust” (65 FR 42122) were both scheduled to close on August 24, 2000. However, in response to requests from the mining community for additional time to review the proposals and submit comments, both the rulemaking records are being extended for two weeks, until September 8, 2000.

The mining community is encouraged to submit their comments on or before that date.

Dated: August 8, 2000.
J. Davitt McAteer,
Assistant Secretary for Mine Safety and Health.

[FR Doc. 00-20515 Filed 8-9-00; 2:47 pm]

BILLING CODE 4510-43-P